DEPARTMENT OF THE INTERIOR

National Park Service

[NPS-WASO-NAGPRA-NPS0039036; PPWOCRADN0-PCU00RP14.R50000]

Notice of Inventory Completion: San Bernardino County Museum, Redlands, CA AGENCY: National Park Service, Interior.

ACTION: Notice.

SUMMARY: In accordance with the Native American Graves Protection and Repatriation Act (NAGPRA), the San Bernardino County Museum has completed an inventory of human remains and associated funerary objects and has determined that there is a cultural affiliation between the human remains and associated funerary objects and Indian Tribes or Native Hawaiian organizations in this notice.

DATES: Repatriation of the human remains and associated funerary objects in this notice may occur on or after December 16, 2024.

ADDRESSES: Tamara Serrao-Leiva, San Bernardino County Museum, 2024 Orange Tree Lane, Redlands, CA 92374, telephone (909) 798-8623, email tserrao-leiva@sbcm.sbcounty.gov.

SUPPLEMENTARY INFORMATION: This notice is published as part of the National Park Service's administrative responsibilities under NAGPRA. The determinations in this notice are the sole responsibility of the San Bernardino County Museum and additional information on the determinations in this notice, including the results of consultation, can be found in its inventory or related records. The National Park Service is not responsible for the determinations in this notice.

Abstract of Information Available

Human remains representing, at least, one individual has been identified. The eight associated funerary objects are one stone, one rounded quartz tool, one lot of quartz and quartz frags, one lot of olivella shell, two obisidian flake/microlith, one lot of red ochre and paint, and one lot of faunal fragments. In 1948-50, Stuart Peck with ASA and UCLA excavated five burials, four possible “token burial,” and associated material, at Zuma Creek, Los Angeles County (catalog number SBCM-473), under a temporary permit. under. The identity of the individual is not known.

Human remains representing, at least, one individual has been identified. There are no associated funerary objects. These remains are identified by a label reading “Solstice Creek” (Los Angeles County) cataloged under number SBCM-5906. This individual was likely a part of the larger donation to the department from the McCowns, who were actively collecting during the 1970s and 80s. The identity of the individual is not known.

Human remains representing, at least, one individual has been identified. The four associated funerary objects are one lot of soil, one lot of beads, one lot of shell, and one lot of fire-affected rock. The collections numbered SBCM-UNN:75-109 included a note found with remains reads, “Mrs. R. Holcomb, San Bernardino, 3/25/69, Dear Luis—This Indian is for the Museum. It was dug up by some kids on the heath north of Gaviota (which is north of Santa Barbara)—I don't know if these are of any interest, but you are welcome to them.—Penny Holcomb.” The ancestor and associated objects from Santa Barbara County were donated to the museum in 1969. The identity of the individual is not known.

Human remains representing, at minimum, two individuals has been identified. There are no associated funerary objects. This unnumbered collection contained a note found with the ancestors stated they were taken from the “California Coast.” The identity of the individuals is not known.

Cultural Affiliation

Based on the information available and the results of consultation, cultural affiliation is reasonably identified by the geographical location or acquisition history of the human remains and associated funerary objects described in this notice.

Determinations

The San Bernardino County Museum has determined that:

• The human remains described in this notice represent the physical remains of five individuals of Native American ancestry.

• The 12 objects described in this notice are reasonably believed to have been placed intentionally with or near individual human remains at the time of death or later as part of the death rite or ceremony.

• There is a connection between the human remains and associated funerary objects described in this notice and the Santa Ynez Band of Chumash Mission Indians of the Santa Ynez Reservation, California.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after December 16, 2024. If competing requests for repatriation are received, the San Bernardino County Museum must determine the most appropriate requestor prior to repatriation. Requests for joint repatriation of the human remains and associated funerary objects are considered a single request and not competing requests. The San Bernardino County Museum is responsible for sending a copy of this notice to the Indian Tribes and Native Hawaiian organizations identified in this notice.

Authority: Native American Graves Protection and Repatriation Act, 25 U.S.C. 3003, and the implementing regulations, 43 CFR 10.10.

Dated: November 7, 2024.
Melanie O'Brien,
Manager, National NAGPRA Program.

[FR Doc. 2024-26450 Filed 11-13-24; 8:45 am]

BILLING CODE 4312-52-P